DEPARTMENT OF ENERGY

Federal Energy Regulatory Commission

[Project No. 7274-035]

Town of Wells, New York; Notice of Reasonable Period of Time for Water Quality Certification Application

On September 25, 2025, the New York State Department of Environmental Conservation (New York DEC) submitted to the Federal Energy Regulatory Commission (Commission) notice that it received a request for a Clean Water Act Section 401(a)(1) water quality certification as defined in 40 CFR 121.5, from the Town of Wells, New York, in conjunction with the above captioned project, on September 25, 2025. Pursuant to the Commission's regulations,¹ we hereby notify the New York DEC of the following:

¹ 18 CFR 4.34(b)(5)(iii).

Date of Receipt of the Certification Request: September 25, 2025.

Reasonable Period of Time to Act on the Certification Request: One year (September 25, 2026).

If the New York DEC fails or refuses to act on the water quality certification request on or before the above date, then the certifying authority is deemed waived pursuant to section 401(a)(1) of the Clean Water Act, 33 U.S.C. 1341(a)(1).

Dated: November 12, 2025.
Carlos D. Clay,
Deputy Secretary.

[FR Doc. 2025-19972 Filed 11-14-25; 8:45 am]

BILLING CODE 6717-01-P